DEPARTMENT OF HEALTH AND HUMAN SERVICES

Centers for Disease Control and Prevention

[60Day-12-12AL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 639-5960 or send comments to Daniel Holcomb, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The National Hospital Care Survey (NHCS): Ambulatory Care Pretest—New—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This one-year clearance request seeks approval to pre-test: (1) Data collection from hospital ambulatory departments including emergency departments (ED), outpatient departments (OPD), and ambulatory surgery locations (ASLs) through the National Hospital Care Survey (NHCS) (OMB No. 0920-0212); (2) new questions on drug-related ED visits; and (3) new questions on colorectal cancer screening in ambulatory surgery visits.

In 2012, a pretest of 30 hospitals will collect data using methods approved for the National Hospital Ambulatory Medical Care Survey (NHAMCS) (OMB No. 0920-0278) data collection. The proposed pretest will test the data collection procedures involved in integrating the NHAMCS into the NHCS. NHAMCS has provided data annually since 1992 concerning the nation's use of hospital emergency and outpatient departments, and since 2009, on hospital-based ASLs. If the pretest is successful, NHAMCS will be integrated into NHCS in order to increase the wealth of data on health care utilization in hospitals across episodes of care and to allow for linkages to other data sources such as the National Death Index and data from Centers for Medicare and Medicaid Services (CMS).

The data items to be collected from the recruited hospitals in the pretest will include facility level data items such as visit volume, number of treatment areas, and information on electronic health record systems. Facility level data will be collected through in-person interviews and recorded on computerized survey instruments, at the hospital-level and at the ambulatory unit level. It is anticipated that each hospital will have approximately four ambulatory units.

Patient level data items will include basic demographic information, name, address, social security number (if available), and medical record number (if available), and characteristics of the patients including admission and discharge dates, reason for visit, diagnoses, diagnostic services, procedures, medications, providers seen, and disposition. Patient visit data will be abstracted by field representatives of the data collection agent. A targeted number of patient visits will be sampled from each department depending on the type of department—approximately 100 across ambulatory units in the ED, 200 across ambulatory units in the OPD, and 100 across ambulatory units in ASLs.

Secondly, the pretest will collect specific information on drug-related visits to the ED. This endeavor, funded by the Center for Behavioral Health Statistics & Quality (CBHSQ) of the Substance Abuse & Mental Health Administration (SAMHSA), will assess the feasibility of integrating the Drug Abuse Warning Network (DAWN) (OMB No. 0930-0078) into the emergency department component of the NHCS. In each of the 30 pretest hospitals with an emergency department, a sample of all patient visits will be abstracted; for each drug-related visit within this sample, additional drug-related data will be abstracted. The only burden to the respondent at the patient visit level will be due to pulling and refiling of approximately 133 medical records at each ambulatory unit.

Finally, the pretest will assess the feasibility of obtaining information on colorectal cancer screening during ambulatory surgery visits where a colonoscopy is performed. The endeavor is sponsored jointly by the National Center for Chronic Disease Prevention and Promotion (NCCDPHP) and the National Cancer Institute (NCI). The questions will be added to the Ambulatory Surgery Patient Record form and will be completed for patients that have a colonoscopy performed at the sampled visit.

Potential users of the NHCS ambulatory data include, but are not limited to CDC, Congressional Research Office, Office of the Assistant Secretary for Planning and Evaluation (ASPE), American Health Care Association, Centers for Medicare & Medicaid Services (CMS), Bureau of the Census, state and local governments, and nonprofit organizations. There is no cost to respondents other than their time to participate.

Estimated Annualized Burden Table
Type of respondent | Form | Number of respondents | Number of responses per respondent | Avg. burden per response (in hrs) | Total burden hours
Hospital Chief Executive Officer | Hospital Induction Interview | 30 | 1 | 1 | 30
Ancillary Service Executive | Ambulatory Unit Induction | 120 | 1 | 15/60 | 30
Medical Record Clerk | Pulling and Refiling Records | 120 | 133 | 1/60 | 266
Total |  |  |  |  | 326

Dated: October 26, 2011.
Daniel Holcomb,
Reports Clearance Officer, Office of the Chief Science Officer, Centers for Disease Control and Prevention.

[FR Doc. 2011-28218 Filed 10-31-11; 8:45 am]

BILLING CODE 4163-18-P